DEPARTMENT OF COMMERCE

National Oceanic and Atmospheric Administration

[RTID 0648-XD364]

North Pacific Fishery Management Council; Public Meetings

AGENCY: National Marine Fisheries Service (NMFS), National Oceanic and Atmospheric Administration (NOAA), Commerce.

ACTION: Notice of public meetings of the North Pacific Fishery Management Council and its advisory committees. The meetings will be held via hybrid conference.

SUMMARY: The North Pacific Fishery Management Council (Council) and its advisory committees will meet October 2, 2023, through October 10, 2023.

DATES: The Council's Scientific and Statistical Committee (SSC) will begin at 8 a.m. in the Aleutian room on Monday, October 2, 2023, and continue through Wednesday, October 4, 2023. The Council's Advisory Panel (AP) will begin at 8 a.m. in the Dilingham/Katmai room on Tuesday, October 3, 2023, and continue through Saturday, October 7, 2023. The Council will begin at 8 a.m. in the Aleutian room on Thursday, October 5, 2023, and continue through Tuesday, October 10, 2023. The Enforcement Trawl Performance Workshop will meet Monday, October 2, 2023, from 1 p.m. to 5 p.m. at the North Pacific Fishery Management Council's Conference Room; 1007 W 3rd Ave., Suite 400, Anchorage, AK 99501-2252. All times listed are Alaska time.

ADDRESSES: The meetings will be a hybrid conference. The in-person component of the meeting will be held at the Hilton Hotel, 500 W 3rd Ave., Anchorage, AK 99501, or join the meeting online through the links at https://www.npfmc.org/current-or-next-council-meeting/.

Council address: North Pacific Fishery Management Council, 1007 W 3rd Ave., Suite 400, Anchorage, AK 99501-2252; telephone: (907) 271-2809. Instructions for attending the meeting via web conference are given under Connection Information, below.

FOR FURTHER INFORMATION CONTACT: Diana Evans, Council staff; email: diana.evans@noaa.gov; telephone: (907) 271-2809. For technical support, please contact our Council administrative staff, email: npfmc.admin@noaa.gov.

SUPPLEMENTARY INFORMATION:

Agenda

Monday, October 2, 2023, Through Wednesday, October 4, 2023

The SSC agenda will include the following issues:

(1) Administrative Issues including Inflation Reduction Act (IRA) funding proposal.

(2) BSAI Crab Specifications—review Stock Assessment and Fishery Evaluation (SAFE) report; adopt Acceptable Biological Catch (ABC)/Over Fishing Limits (OFLs) for Bristol Bay red king crab (BBRKC), Tanner crab, snow crab, Pribilof Island blue king crab (PIBKC); Ecosystem Status Report; BSAI Crab Plan Team Report.

(3) BSAI/Gulf of Alaska (GOA) Groundfish—Proposed specifications; Plan Team reports.

(4) Chum Salmon bycatch—preliminary review.

(5) BSAI Crab Program Review—review workplan.

(6) Individual Fishing Quota (IFQ) Program Review—review workplan.

The agenda is subject to change, and the latest version will be posted at https://meetings.npfmc.org/Meeting/Details/3004 prior to the meeting, along with meeting materials.

In addition to providing ongoing scientific advice for fishery management decisions, the SSC functions as the Council's primary peer review panel for scientific information, as described by the Magnuson-Stevens Act section 302(g)(1)(e), and the National Standard 2 guidelines (78 FR 43066). The peer-review process is also deemed to satisfy the requirements of the Information Quality Act, including the OMB Peer Review Bulletin guidelines.

Monday, October 2, 2023

Trawl Gear Performance Standard Workshop agenda:

The NPFMC will host a workshop to engage with stakeholders and fishery participants on ways to revise the trawl gear performance standard so that it is clear, enforceable, and meets Council objectives. The trawl performance standard regulation prohibits the presence of 20 or more crab above a threshold size limit, at any time, while directed fishing for pollock using pelagic trawl gear. Variations of the performance standard apply in both the BSAI and GOA. The agenda is subject to change, and the latest version will be posted at https://meetings.npfmc.org/Meeting/Details/1885 prior to the meeting, along with meeting materials.

Tuesday, October 3, 2023, Through Saturday, October 7, 2023

The Advisory Panel agenda will include the following issues:

(1) Administrative Issues.

(2) Observer 2024 Annual Deployment Plan; PCFMAC report.

(3) Crab Facility Use Caps—Initial Review.

(4) BSAI Crab Specifications—review SAFE report; adopt ABC/OFLs for BBRKC, Tanner crab, snow crab, PIBKC; BSAI Crab Plan Team Report.

(5) BSAI/GOA Groundfish—Proposed specifications; Plan Team reports; GOA Demersal Shelf Rockfish (DSR)/other rockfish spatial management.

(6) Chum Salmon bycatch—preliminary review.

(7) Area 4 Vessel Use Caps—Initial Review (tentative).

(8) Bering Sea Local Knowledge/Traditional Knowledge/Subsistence Information Protocol and Onramps—final action to approve protocol and onramps.

(9) BSAI Crab Program Review—review workplan.

(10) IFQ Program Review—review workplan.

(11) Staff Tasking.

Thursday, October 5, 2023, Through Tuesday, October 10, 2023

The Council agenda will include the following issues. The Council may take appropriate action on any of the issues identified.

(1) B Reports (Executive Director including IRA funding proposal, NMFS Management including Salmon FMP Secretarial amendment and update on National Environmental Policy Act (NEPA) changes, NOAA General Counsel (GC), Alaska Fishery Science Center (AFSC), Alaska Department of Fish and Game (ADF&G), United States Coast Guard (USCG), United States Fish and Wildlife Service (USFWS), North Pacific Fisheries Commission, North Pacific Research Board, Advisory Panel, SSC report).

(2) BSAI Crab Specifications—review SAFE report; adopt ABC/OFLs for BBRKC, Tanner crab, snow crab, PIBKC; BSAI Crab Plan Team Report.

(3) Observer 2024 Annual Deployment Plan; PCFMAC report.

(4) BSAI/GOA Groundfish—Proposed specifications; Plan Team reports; GOA Demersal Shelf Rockfish (DSR)/other rockfish spatial management.

(5) Chum Salmon bycatch—preliminary review.

(6) Area 4 Vessel Use Caps—Initial Review (tentative).

(7) Crab Facility Use Caps—Initial Review.

(8) Bering Sea Local Knowledge/Traditional Knowledge/Subsistence Information Protocol and Onramps—final action to approve protocol and onramps.

(9) BSAI Crab Program Review—review workplan.

(10) IFQ Program Review—review workplan.

(11) Staff Tasking.

Connection Information

You can attend the meeting online using a computer, tablet, or smart phone; or by phone only. Connection information will be posted online at: https://www.npfmc.org/upcoming-council-meetings. For technical support, please contact our administrative staff, email: npfmc.admin@noaa.gov.

If you are attending the meeting in-person, please refer to the COVID avoidance protocols on our website, https://www.npfmc.org/current-or-next-council-meeting/.

Public Comment

Public comment letters will be accepted and should be submitted electronically through the links at https://www.npfmc.org/current-or-next-council-meeting/. The Council strongly encourages written public comment for this meeting, to avoid any potential for technical difficulties to compromise oral testimony. The written comment period is open from September 8, 2023, to September 29, 2023, and closes at 12 p.m. Alaska time on Friday, September 29, 2023.

Although other non-emergency issues not on the agenda may come before this group for discussion, those issues may not be the subject of formal action during these meetings. Actions will be restricted to those issues specifically listed in this notice and any issues arising after publication of this notice that require emergency action under section 305(c) of the Magnuson-Stevens Fishery Conservation and Management Act, provided the public has been notified of the Council's intent to take final action to address the emergency.

Authority: 16 U.S.C. 1801 et seq.

Dated: September 12, 2023.
Diane M. DeJames-Daly,
Acting Deputy Director, Office of Sustainable Fisheries, National Marine Fisheries Service.

[FR Doc. 2023-20033 Filed 9-14-23; 8:45 am]

BILLING CODE 3510-22-P